DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR Part 236, as detailed below.

Docket Number FRA-2007-28095

Applicant: Union Pacific Railroad Company, Mr. Mark Barnum, Senior Director of Operating Practices, 1400 Douglas Street, Stop 1050, Omaha, Nebraska 68179-1050.

The Union Pacific Railroad Company (UP) seeks relief from the requirements of the Rules, Standards and Instructions of 49 CFR Section 236.566, to the extent that UP be permitted to operate “light” locomotive consists, where the lead locomotive is either not equipped with an automatic cab signal apparatus or is equipped with an automatic cab signal apparatus that is inoperative, on two short segments of main tracks between Milepost 146.9 and Milepost 146.5 and between Milepost 149.1 and Milepost 149.7 on the Marysville Subdivision near Marysville, Kansas.

Applicant's justification for relief: The relief would be limited to light locomotive consists (i.e., locomotive consists without cars attached), and is solely for the purpose of allowing these locomotives to move to or from trains or yard movements. Movements made under the waiver would be at restricted speed, regardless of a more favorable signal indication.

Any interested party desiring to protest the granting of an application shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

All communications concerning this proceeding should be identified by Docket Number FRA-2007-28095 and may be submitted by one of the following methods:

• Web site: http://dms.dot.gov. Follow the instructions for submitting comments on the DOT electronic site;

• Fax: 202-493-2251;

• Mail: Docket Management Facility, U.S. Department of Transportation, 400 7th Street, SW., Nassif Building, Room PL-401, Washington, DC 20590-0001; or

• Hand Delivery: Room PL-401 on the plaza level of the Nassif Building, 400 7th Street, SW., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC on May 21, 2007.
Grady C. Cothen, Jr.
Deputy Associate Administrator for Safety Standards and Program Development.

[FR Doc. E7-10152 Filed 5-24-07; 8:45 am]

BILLING CODE 4910-06-P